DEPARTMENT OF justice

Drug Enforcement Administration

Manufacturer of Controlled Substances; Notice of Withdrawal of Application

As set forth in the Federal Register on April 2, 2003, (68 FR 16089), ISP Freetown Fine Chemicals, Inc., 238 South Main Street, Assonet, Massachusetts 02702, made application by letter to the Drug Enforcement Administration to be registered as a bulk manufacturer of Levorphanol (9220) a basic class of controlled substance listed in Schedule II.

By letter dated June 30, 2003, ISP Freetown Fine Chemicals, Inc., requested that their application to manufacture Levorphanol be withdrawn. Therefore, said application is hereby withdrawn.

Dated: August 19, 2003.
Laura M. Nagel,
Deputy Assistant Administrator, Office of Diversion Control, Drug Enforcement Administration.

[FR Doc. 03-22327 Filed 8-29-03; 8:45 am]

BILLING CODE 4410-09-M